SMALL BUSINESS ADMINISTRATION

[Declaration of Disaster #3492]

State of Mississippi

As a result of the President's major disaster declaration on April 24, 2003, I find that Amite, Attala, Claiborne, Clarke, Copiah, Franklin, Hinds, Holmes, Issaquena, Jasper, Jefferson, Kemper, Lauderdale, Lawrence, Leake, Lincoln, Madison, Neshoba, Newton, Pike, Rankin, Scott, Simpson, Smith, Walthall, Warren, Wayne and Yazoo in the State of Mississippi constitute a disaster area due to damages caused by severe storms, tornadoes and flooding occurring on April 6 through April 14, 2003. Applications for loans for physical damage as a result of this disaster may be filed until the close of business on June 23, 2003 and for economic injury until the close of business on January 26, 2004 at the address listed below or other locally announced locations: U.S. Small Business Administration, Disaster Area 2 Office, One Baltimore Place, Suite 300, Atlanta, GA 30308.

In addition, applications for economic injury loans from small businesses located in the following contiguous counties may be filed until the specified date at the above location: Adams, Carroll, Choctaw, Covington, Greene, Humphreys, Jefferson Davis, Jones, Leflore, Marion, Montgomery, Noxubee, Perry, Sharkey, Washington, Wilkinson and Winston Counties in the State of Mississippi; Choctaw, Sumter and Washington Counties in the State of Alabama; Chicot County in the State of Arkansas; and East Carroll, East Feliciana, Madison, St. Helena, Tangipahoa, Tensas and Washington Parishes in the State of Louisiana.

The interest rates are:

| Percent
For Physical Damage:
Homeowners with credit available elsewhere | 5.875
Homeowners without credit available elsewhere | 2.937
Businesses with credit available elsewhere | 6.378
Businesses and non-profit organizations without credit available elsewhere | 3.189
Others (including non-profit organizations) with credit available elsewhere | 5.500
For Economic Injury:
Businesses and small agricultural cooperatives without credit available elsewhere | 3.189

The number assigned to this disaster for physical damage is 349211. For economic injury the number is 9V0300 for Mississippi; 9V0400 for Alabama; 9V0500 for Arkansas; and 9V0600 for Louisiana.

(Catalog of Federal Domestic Assistance Program Nos. 59002 and 59008).
Dated: April 24, 2003.
Cheri C. Wolff,
Acting Associate Administrator for Disaster Assistance.

[FR Doc. 03-10938 Filed 5-2-03; 8:45 am]

BILLING CODE 8025-01-P